NATIONAL AERONAUTICS AND SPACE ADMINISTRATION

14 CFR Part 1206

RIN 2700-AC36

Availability of Agency Records to Members of the Public

AGENCY: National Aeronautics and Space Administration (NASA).

ACTION: Final rule; technical amendment.

SUMMARY: This amendment to NASA's regulations on availability of agency records to members of the public clarifies an inconsistency in the provisions relating to notice to submitters of commercial information.

DATES: Effective April 12, 2000.

ADDRESSES: Freedom of Information Act Officer, Code PO, NASA Headquarters, Washington, DC 20546

FOR FURTHER INFORMATION CONTACT: Kellie N. Robinson, 202/358-2265, or Sharon S. Seward, 202/358-2085.

SUPPLEMENTARY INFORMATION: The National Aeronautics and Space Administration published a Final Rule to revise its Freedom of Information Act (FOIA) regulations on July 22, 1999 (64 FR 39404), in accordance with the EFOIA of 1996 as amended by Public Law 104-231. This amendment provides clarification of an inconsistency in that Final Rule. This amendment removes § 1206.610(e)(4) so that § 1206.610(e) is consistent with the provisions of § 1206.610(d).

List of Subjects in 14 CFR Part 1206

Freedom of information.

Dated: March 23, 2000.
Daniel S. Goldin,
Administrator.

Accordingly as set forth above, NASA amends 14 CFR chapter V as follows:

PART 1206—AVAILABILITY OF AGENCY RECORDS TO MEMBERS OF THE PUBLIC

1. The authority citation for part 1206 continues to read as follows:

Authority: 5 U.S.C. 552, 552a; 42 U.S.C. 2473.

§ 1206.610 [Amended]

2. In § 1206.610, remove paragraph (e)(4).

[FR Doc. 00-8769 Filed 4-11-00; 8:45 am]

BILLING CODE 7510-01-P